DEPARTMENT OF THE INTERIOR

National Park Service

[NPS-WASO-D-COS-POL-38678; PPWODIREP0, PPMPSAS1Y.YP0000]

Notice of Public Meeting for the National Park System Advisory Board

AGENCY: National Park Service, Interior.

ACTION: Meeting notice.

SUMMARY: In accordance with the Federal Advisory Committee Act of 1972, as amended, the National Park Service (NPS) is hereby giving notice that the National Park System Advisory Board (Board) will meet as noted below.

DATES: The Board will hold public meetings on Monday, December 9, 2024, from 11:00 a.m. until 5:30 p.m. (eastern) and Tuesday, December 10, 2024, from 11:00 a.m. until 5:30 p.m. (eastern). Individuals that wish to participate must contact the person listed in the FOR FURTHER INFORMATION CONTACT section no later than Monday, December 2, 2024, to receive instructions for accessing the meeting. The meeting will be held online through the Teams platform and is open to the public.

ADDRESSES: The meeting will be accessible virtually via webinar and audio conference technology. Electronic submissions of materials or requests to speak at the meeting are to be sent to alma_ripps@nps.gov.

FOR FURTHER INFORMATION CONTACT: (a) For information concerning attending the Board meeting or to request to address the Board, contact Alma Ripps, Designated Federal Officer, National Park Service, telephone (202) 354-3951, or email alma_ripps@nps.gov. (b) To submit a written statement specific to, or request information about, any National Historic Landmark (NHL) matter listed below, or for information about the NHL Program or NHL designation process and the effects of designation, contact Lisa Davidson, Manager, NHL Program, email lisa_davidson@nps.gov. Written comments specific to any NHL matter listed below must be submitted by no later than December 3, 2024. (c) To submit a written statement specific to, or request information about, any National Natural Landmark (NNL) matter listed below, or for information about the NNL Program or NNL designation process and the effects of designation, contact Heather Eggleston, Manager, NNL Program, email heather_eggleston@nps.gov. Written comments specific to any NNL matter listed below must be submitted by no later than December 2, 2024. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Board has been established by authority of the Secretary of the Interior (Secretary) under 54 U.S.C. 100906 and is regulated by the Federal Advisory Committee Act.

Purpose of the Meeting: The Board will be briefed by NPS officials on the organization, programs, and priorities of the NPS, and will attend to housekeeping matters, including the potential establishment of committees and committee recommendations. The Board will also receive NHL and NNL proposals for Board deliberation. There will be an opportunity for public comment. The final agenda and briefing materials will be posted to the Board's website prior to the meeting at https://www.nps.gov/resources/advisoryboard150.htm.

The agenda may include the review of proposed actions regarding the NHL Program and the NNL Program. Interested parties are encouraged to submit written comments and recommendations that will be presented to the Board. Interested parties also may attend the Board meeting virtually and upon request may address the Board concerning an area's national significance.

A. National Historic Landmarks (NHL) Program

NHL Program matters will be considered, during which the Board may consider the following:

Nominations for NHL Designation

California

• TOR HOUSE (ROBINSON JEFFERS HOME), Carmel, CA

• SUMMIT CAMP, Placer and Nevada Cos., CA

Colorado

• BOULDER COUNTY COURTHOUSE, Boulder, CO

District of Columbia

• LUCY DIGGS SLOWE AND MARY BURRILL HOUSE, Washington, DC

District of Guam

• MANENGGON CONCENTRATION CAMP, Yona, GU

Iowa

• REEVE REA POWER GENERATING PLANT, Hampton, IA

Louisiana

• MR. CHARLIE OFFSHORE OILRIG, Morgan City, LA

New Hampshire

• LUCKNOW (CASTLE IN THE CLOUDS), Moultonborough, NH

New Mexico

• PETER HURD AND HENRIETTE WYETH HOUSE AND STUDIOS, San Patricio, NM

New York

• WINGED FOOT GOLF COURSE, Mamaroneck, NY

North Carolina

• F.W. WOOLWORTH CO. BUILDING, Greensboro, NC

North Carolina and Virginia

• BLUE RIDGE PARKWAY, multiple, NC and VA

Virginia

• LOUDOUN COUNTY COURTHOUSE, Leesburg, VA

• AZUREST SOUTH, Petersburg, VA

Proposed Amendments to Existing NHL Designations

Alaska

• FORT WILLIAM H. SEWARD (updated documentation), Haines, AK

Maryland

• MONOCACY BATTLEFIELD (updated documentation, boundary change), Frederick, MD

Pennsylvania

• CARRIE BLAST FURNACES NUMBER 6 AND 7 (updated documentation, boundary change), multiple, Alleghany County, PA

Virginia

• FORT MONROE (updated documentation), Hampton, VA

Washington

• FORT WORDEN (updated documentation), Port Townsend, WA

Proposed Withdrawal of Existing Designations:

Hawai'i

• FALLS OF CLYDE (FOUR-MASTED OIL TANKER), Honolulu, HI

B. National Natural Landmarks (NNL) Program

NNL Program matters will be considered, during which the Board may consider the following:

Nomination for NNL Designation

Massachusetts

• NANTUCKET BARRIER BEACH AND WILDLIFE REFUGE, Nantucket County, MA

Interested persons may choose to make oral comments at the virtual meeting during the designated time for this purpose. Depending on the number of people wishing to comment and the time available, the amount of time for oral comments may be limited. Interested parties should contact Alma Ripps (see FOR FURTHER INFORMATION CONTACT) for advance placement on the public speaker list for this meeting. Members of the public may also choose to submit written comments by emailing them to alma_ripps@nps.gov. Due to time constraints during the meeting, the Board is not able to read written public comments submitted into the record. All comments will be made part of the public record and will be electronically distributed to all Board members. Detailed minutes of the meeting will be available for public inspection within 90 days of the meeting.

Meeting Accessibility/Special Accommodations: Please make requests in advance for sign language interpreter services, assistive listening devices, language translation services, or other reasonable accommodations. We ask that you contact the person listed in the FOR FURTHER INFORMATION CONTACT section of this notice at least seven (7) business days prior to the meeting to give the Department of the Interior sufficient time to process your request. All reasonable accommodation requests are managed on a case-by-case basis.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. ch. 10.

Alma Ripps,
Chief, Office of Policy.

[FR Doc. 2024-22824 Filed 10-2-24; 8:45 am]

BILLING CODE 4312-52-P